DEPARTMENT OF COMMERCE

National Telecommunications and Information Administration

[Docket No. 200504-0126]

RIN 0660-XC045

Input on Proposals and Positions for the 2020 World Telecommunication Standardization Assembly

AGENCY: National Telecommunications and Information Administration (NTIA), U.S. Department of Commerce.

ACTION: Notice, request for public comment.

SUMMARY: NTIA is seeking comments and recommendations on priorities that advance international communications and information policies at the International Telecommunication Union (ITU). Additionally, NTIA seeks input from stakeholders and interested parties on its proposals and positions on matters that will be addressed at the 2020 World Telecommunication Standardization Assembly (WTSA-2020) of the ITU. NTIA's priorities, described below, are intended to best position the United States' Information and Communications Technology (ICT) industry to retain its global leadership in the rapidly evolving communications sector. NTIA is working closely with the U.S. Department of State (State), which is leading and coordinating the WTSA-2020 preparatory process for the United States. This Notice and Request for Public Comment is the public's opportunity to comment on NTIA's proposals and positions for WTSA-2020.

DATES: Comments are due on or before June 8, 2020.

ADDRESSES: Written comments may be submitted by mail to the Office of International Affairs (OIA), National Telecommunications and Information Administration, U.S. Department of Commerce, 1401 Constitution Avenue NW, Room 4701, Washington, DC 20230. Written comments may also be submitted electronically to WTSA2020@ntia.gov. Please submit electronic comments, either in Microsoft word or Adobe PDF, using a text searchable format. NTIA will post comments to the NTIA's website at https://www.ntia.gov/federal-register-notice/2020/comments-proposals-positions-wtsa20.

FOR FURTHER INFORMATION CONTACT: Aimee Meacham, Office of International Affairs, National Telecommunications and Information Administration, U.S. Department of Commerce, 1401 Constitution Avenue NW, Room 4701, Washington, DC 20230; telephone: (202) 482-5820; email: ameacham@ntia.gov. Please direct media inquiries to NTIA's Office of Public Affairs at (202) 482-7002 or press@ntia.gov.

SUPPLEMENTARY INFORMATION:

Background: Within the U.S. Department of Commerce (Commerce), NTIA is the Executive Branch agency responsible for advising the President on communications and information policy.¹ NTIA was established in 1978 in response to the growing national consensus that “telecommunications and information are vital to the public welfare, national security, and competitiveness of the United States,” and that, “rapid technological advances being made in the telecommunications and information fields make it imperative that the United States maintain effective national and international policies and programs capable of taking advantage of continued advancements.” ² The agency plays a central role in the formulation of the U.S. Government's ICT policies, particularly with respect to telecommunications and the internet. NTIA advances these policies and related priorities in conjunction with State at global venues, including the ITU. The ITU's WTSA-2020 will be held in Hyderabad, India from November 17-27, 2020. It is an assembly of Member States and private sector organizations (sector members) that participate in the Standardization Sector of the ITU (“ITU-T”). WTSA-2020 will set the ITU-T agenda for the next four years and will select the leadership of the ITU-T Study Groups. In addition to technical standards, the ITU-T studies and develops recommendations beyond standardization that affect industry, such as global numbering, accounting and settlement mechanisms, international mobile roaming, fraud and misuse of facilities, competition policy, and economic and regulatory impacts of the internet digital economy.

¹ 47 U.S.C. 902(b)(2)(D).

² 47 U.S.C. 901(b)(1-6).

Through this notice, NTIA is soliciting comments and recommendations from stakeholders and other interested parties on its proposals and positions that feed into the State-led preparatory process for WTSA-2020. Comments are welcomed from all interested stakeholders—including the private sector, the technical community, academia, government, civil society, and individuals. The comments will help NTIA, and the U.S. Government more broadly, to leverage and prioritize their resources and policy expertise most effectively. Please note that NTIA is not seeking additional comments from parties that may have responded to the Department of State's Request for Comments.³

³ See 85 FR 6256 (Feb. 2, 2020).

NTIA's principles and objectives for WTSA-2020 align with the Administration's 2017 National Security Strategy, which affirmed that “the United States will advocate for open, interoperable communications, with minimal barriers to the global exchange of information and services” ⁴ and the Administration's 2018 National Cybersecurity Strategy Pillar II objective to “[p]reserve United States influence in the technological ecosystem and the development of cyberspace as an open engine of economic growth, innovation, and efficiency.” ⁵

⁴ The National Security Strategy of the United States of America, December 2017, available at https://www.whitehouse.gov/wp-content/uploads/2017/12/NSS-Final-12-18-2017-0905.pdf.

⁵ The National Cybersecurity Strategy of the United States of America, September 2018, available at https://www.whitehouse.gov/wp-content/uploads/2018/09/National-Cyber-Strategy.pdf.

NTIA's policy and proposal objectives will include advancing the following efforts to: (1) Further the multistakeholder approach to internet policy; (2) advance ITU-T restructuring to increase organizational effectiveness, reduce duplication; (3) improve ITU-T processes and procedures (i.e., working methods), especially transparency; and (4) increase U.S. strategic engagement and influence in the ITU-T. NTIA's objectives will also support Commerce priorities to: (1) Promote technical standards that preserve our economic security, facilitate US technology leadership globally, and enhance the resilience of cyberspace; and, (2) address barriers to coordination and collaboration with other industry-led standards development efforts.

I. Further the Multistakeholder Approach to Internet Policy

NTIA remains committed to a multistakeholder approach with respect to internet policy issues. All stakeholders (governments, the private sector, and civil society) have a role to play in the development of the internet and the ITU should provide a consensus-driven, transparent forum for issues appropriate to its own mission (e.g., interconnection). NTIA's view, along with that generally of the USG, is that the success of the internet has been in part based on the fact that no one single entity controls it, allowing entrepreneurs, industries, scientists, and academics globally to continually innovate. NTIA's proposals and positions on internet policy issues will be guided by the objectives of promoting the multistakeholder approach, maintaining the stability and security of the internet, and maintaining the appropriate limited role for the ITU. Recognizing that the ITU has a role within its limited scope and remit, the NTIA will work with the multistakeholder community to identify constructive, clearly-defined, specific ITU-T study-group questions, based on the importance of contribution-driven/membership driven work. We seek comment on the policy position outlined for this objective. Based on ITU-T presentations to Regional WTSA-2020 Preparatory Meetings,⁶ we expect to see new proposals to WTSA-2020 addressing:

⁶ See ITU-T Regional WTSA-2020 Preparatory Meetings: (1) Africa; (2) Americas; (3) Arab States; (4) Asia and the Pacific; (5) CIS; and Europe. Americas, Asian Pacific, available at https://www.itu.int/en/ITU-T/wtsa20/prepmeet/Pages/default.aspx.

• Artificial Intelligence/Machine Learning

• Consumer Protection

• Cybersecurity

• Digital Economy

• Internet Policy and Governance

• internet Platforms

• Internet of Things

• 5G—IMT-2020

• International Mobile Roaming

• Mobile Financial Services/Digital Currency

• Personal Data Protection

• Over-the-Top Services

• Healthcare Technology

• Quantum Cryptography

• Quantum Computing

• Unmanned Aerial Vehicles

• Smart Cities

• Mobile Virtual Networks

• Other emerging Technologies

(a) What role would stakeholders like the ITU-T to play with respect to standards development for these issues? Given NTIA's limited resources to cover or even track all of these issues at the ITU and all other Standards Developing Organizations (SDO), it would help us to understand which of these issues are more effectively covered in other SDOs.

II. Advance ITU-T Restructuring To Increase Organizational Effectiveness, Reduce Duplication and Ensure the Proper Scope of the ITU

NTIA expects that WTSA-2020 will focus heavily on restructuring study groups through either merger or expansion. NTIA supports the ongoing efforts to improve the structure of the ITU-T to ensure that it focuses on its core competencies.

NTIA and other U.S. stakeholders have noted that the emphasis of work in ITU-T has shifted away from the development of technical standards to regulatory policy; specifically using the output of ITU-T study groups as an input to the development of the International Telecommunications Regulations (ITRs) used to try to impose regulations on the internet. NTIA's priority is to ensure the ITU-T refocuses its efforts on technical matters that are within its mandate and expertise and to minimize and redirect any work on issues outside ITU-T's mandate. NTIA is deeply concerned that certain countries wish to expand the scope of ITU-T study groups beyond their mandate and to use the output of ITU-T study groups as a step to reshape the ITRs. NTIA expects that Member States and in some cases Sector Members will continue to look to enlarge the scope and volume of ITU-T activities.

Recently, ITU-T Member States and Sector Members launched focus groups on quantum information technology for networks, artificial intelligence (AI) for autonomous and assisted driving, AI for health, environmental efficiency for AI and other emerging technologies, technologies for Network 2030, and machine learning for future networks and vehicular multimedia. Many of these issues are addressed in other SDOs and many are not within the remit of the ITU-T or its areas of expertise.

There is also a significant overlap for the issues amongst the current ITU-T Study Group structure. NTIA sees merit in a reduced number of Study Groups as this would provide a clearer scope and direction for each Study Group, reduce overlap, and enhance participation of developed and developing countries in the activities of the sector. Furthermore, NTIA recommends combining study groups into functional topics within a single study group in order to improve synergy, reduce the number of meetings, and make efficient use of limited ITU, national, and private sector resources. NTIA and State will advocate for the following specific proposals related to restructuring:

(a) Only one ITU-T Study Group considers economic and policy issues and the United States believes that no other activities of ITU-T should be combined with such studies. As such, the United States supports the proposals to retain the current structure of ITU-T Study Group 3 and increase its coordination role with ITU-D. As a longer-term vision, NTIA believes that moving policy components of ITU-T to ITU Development Sector (ITU-D) aligns with ITU Constitution (CS) Article 21, Functions and Structure of the Telecommunication Development Sector. The move would benefit developing countries for whom this remains a priority issue and increases accessibility of the meetings and thus participation.

(b) Merge Study Groups—Merging Study Group 11 (SG11): Signaling requirements, protocols, test specifications and combating counterfeit products should be merged with Study Group 13 (SG 13) Future networks, with focus on IMT-2020, cloud computing and trusted network infrastructures into a single group with a new name. There is significant overlap in the subjects addressed in SG 11 and SG 13. NTIA is of the view that SG 11 and SG 13 have a wide variety of forward-looking telecommunications questions that are currently under study. NTIA believes that work of the current study groups 11 and 13 are related, including signaling, requirements, interfaces, and protocol work. Merging questions and groups also makes it more expedient for the US government and US stakeholders to cover these issues at the ITU. NTIA plans to prioritize its participation in relevant questions of this combined Study Group as we believe it is imperative that the United State facilitate US industry's ability to influence standards for the next generation of communications.

We seek comment on the policy position outlined for this objective. Specifically:

(a) We seek comment on which study groups should be combined or specific proposals at the ITU.

(b) Assuming the ITU-T study group structure remains as it is today, in which study groups (SGs) and activities should NTIA prioritize its participation and why? The current groups for the Study Period 2017-2020 are available at https://www.itu.int/en/ITU-T/studygroups/2017-2020/Pages/default.aspx.

(c) Should there be any new study groups at the ITU-T? Should any study groups be eliminated or consolidated? Of the issues that ITU-T study groups now cover, are there issues that are more appropriately addressed in other SDOs? If so, which SDOs and why?

III. Improve ITU-T Processes and Procedures (i.e., Working Methods), and Transparency

NTIA will focus on where the ITU-T processes and procedures add value to the technical standards work within its remit, and look to enhance those areas of value while minimizing areas of little to no value. With concerns noted above on potential scope and mission creep, NTIA would like to ensure that processes and procedures are strengthened, including reducing duplication and increasing collaboration among ITU Sectors and with other SDOs.

For example, the ITU-T's scope expansion is most apparent in the proliferation of ITU-T emerging technology focus groups, which increasingly address policy and regulatory matters and whose outputs often lead directly to study group recommendations. Aside from the inappropriate mission creep, the ITU-T study groups adopt focus group recommendations in their entirety, without debate or sufficient peer review—thus inconsistent with a hallmark of ITU decisions of being “consensus-driven.” NTIA is concerned that ITU-T focus groups may be used to bypass the questions of appropriateness of scope, generally lack transparency, and have significant operational, financial, and strategic implications for ITU-T and more broadly the ITU. NTIA sees opportunities for improving the clarity, specificity, and completeness with which ITU-T working methods and procedures are documented. NTIA seeks to enhance the efficiency and effectiveness of ITU-T through procedural improvements that benefit all stakeholders in the future of the ITU. The ITU's budget constraints leave no room for duplication in its efforts. The current inefficiency not only costs the ITU capital, but also both Member States and Sector Members, requiring more of their time and resources to achieve the same work outputs while detracting from where the ITU can and should uniquely engage. In other words, NTIA recognizes that if it is difficult for the members of the ITU to effectively cover all of the issues at the ITU-T, it is nearly impossible for developing countries within the Americas and other regions to have any voice in most standardization issues thus undermining the credibility of ITU output having any global imprimatur.

We seek comment on the policy position outlined for this objective. Specifically:

(a) Should the ITU strengthen cooperation and collaboration among the three ITU sectors? If so, what are some suggested methods for doing so?

(b) What, if any, modifications to WTSA Resolutions and Recommendations would improve their efficiency and effectiveness?

IV. Increase U.S. Presence and Influence in the ITU-T

The United States has been and continues to be a leading innovator of world-changing ICT. U.S. presence in international SDOs has allowed us to influence global standards and has been a key factor of the ICT success. The development and transition to 5G requires even greater representation and participation by the U.S. public and private sectors. The call for increased representation in SDOs has recently been taken up in legislation. There are numerous SDOs focused on various aspects of telecommunication and ICT policies. While the ITU-T has been widening its areas of interest in recent years, participation from U.S. firms in ITU-T standards work has declined in general. At the same time, we have seen an increase in the participation from other countries looking to gain influence in global standards bodies and increase market share, especially in emerging economies. NTIA has observed that many developing countries refer to international treaty organizations, such as the ITU, when adopting national standards and policies. Given this background, NTIA intends to promote ways to foster increased US leadership and facilitate greater participation and representation the U.S. stakeholders, as appropriate.

We seek comment on the policy position outlined for this objective. Specifically:

(a) What factors influence U.S. industry's participation in ITU meetings? How do these organizations decide to allocate time and resources to ITU sectors, study groups, or focus groups? How should U.S. industry's decisions affect how NTIA participates in SDOs, ITU sectors, study groups or focus groups?

(b) Have changes in ITU-T membership (sector and associate members) affected U.S. leadership in technology and telecommunication industry standards? Will these changes affect those standards going forward? If so, how?

(c) How should NTIA engage with, and facilitate, U.S. industry and other relevant stakeholders' awareness of and participation in ITU and other SDOs?

(d) How does ITU involvement in global standards development positively or negatively affect U.S. industry interests? How does it advance US industry interests?

(e) How important are ITU-T recommendations to U.S. ICT stakeholders? Is there a wide implementation of the ITU-T recommendations in the United States or elsewhere by relevant organizations or companies? Why or why not? What factors affect the adoption or implementation of ITU-T recommendations, e.g., cost, applicability? Please provide examples of these implementations, if any.

V. Further the Multistakeholder Approach to Internet Policy

The ITU-T leadership continues to look at ways to improve the Sector's work going forward and has increased the Sector's focus on ICT applications and services, as they are economic drivers. Specifically, ITU-T leadership has stated in interviews and meetings that it will focus on ITU-T activities that will help build additional trust (i.e., cybersecurity) in the ICT sector, improving the standards development process, and delivering standards in areas of convergence such as automotive, healthcare, and financial technology (fintech). Many countries view the ITU as a “trusted entity” and as the appropriate venue for addressing their cyberspace and security concerns. NTIA supports the current limited role of the ITU-T in technical recommendation work related to telecommunications security. NTIA's deliberations on security issues will be guided by the objectives of recognizing the role of other standards development organizations (SDOs); promoting private sector leadership on technical standards; and ensuring the ITU-T work remains within its mission scope.

We seek comment on the policy position outlined for this objective. Specifically:

(a) What, if any, ITU recommendations are necessary to ensure a resilient, secure and diverse 5G supply chain (to include, for example, manufacturing, importation, operations, maintenance and distribution) to ensure traceability, transparency, security, privacy and trustworthiness of data, devices and networks?

(b) What should the ITU-T continue to focus on that has value to U.S. interests?

(c) What unique value does the ITU Standardization Sector, as part of an intergovernmental organization, provide?

(d) What areas should the ITU-T avoid and of those, where are those areas better handled?

VI. Explore Further Coordination and Collaboration With Other Industry-Led Standards Development Organizations

There are numerous SDOs with deep expertise on various aspects of telecommunications and information policies. While the ITU-T has been widening its areas of interest in recent years, the participation from U.S. firms in ITU-T standards work has declined. At the same time, we have seen a dramatic increase in the participation from other countries looking to gain influence at the ITU. NTIA will continue to advocate for standards from SDOs developed using a consensus-based, industry-driven approach; that industry should lead international standards development processes, and that those processes should be transparent and open. The ITU-T Study Group 13's Network 2030 Focus group, for example, has studied the capabilities of networks for the year 2030 and beyond to answer specific questions on what kinds of network internet Protocol (IP) architecture and the enabling mechanisms are suitable for novel scenarios, such as holographic type communications and high-precision communication demands of emerging market verticals.⁷ Additionally, we expect to see and oppose proposals to include other topics that may not be appropriate for ITU-T consideration and are better addressed by other SDOs—both private and public/private partnerships. We expect to see and oppose topics in the following areas as completely outside the ITU-T remit: Consumer protection, personal data protection, healthcare technology, and unmanned aerial vehicles.

⁷ See ITU-T Focus Group on Technologies for Network 2030, available at https://www.itu.int/en/ITU-T/focusgroups/net2030/Pages/default.aspx.

We seek comment on the policy position outlined for this objective. Specifically:

Are there specific areas where the work of the ITU-T is either duplicative or has unnecessary overlaps with the work of other SDOs? If so, please describe the duplication or overlap, as well as any additional concerns.

Request for Public Comment

In addition to the questions above, NTIA invites comment on the full range of issues that may be presented by this inquiry, and also welcomes input and comments on any specific issues being advanced by other countries, private sector organizations, and stakeholders for WTSA-2020.

Instructions for Commenters:

Commenters are encouraged to address any or all of the questions in this RFC. Comments that contain references to studies, research, and other empirical data that are not widely published should include copies of the referenced materials with the submitted comments. Comments submitted by email should be machine-readable and should not be copy-protected. Comments submitted by mail may be in hard copy (paper) or electronic (on CD-ROM or disk).

Commenters should include the name of the person or organization filing the comment, as well as a page number on each page of their submissions. All comments received are a part of the public record and generally will be posted on the NTIA website, https://www.ntia.gov, without change. All personal identifying information (for example, name, address) voluntarily submitted by the commenter may be publicly accessible. Do not submit confidential business information or otherwise sensitive or protected information.

Dated: May 4, 2020.
Kathy Smith,
Chief Counsel, National Telecommunications and Information Administration.

[FR Doc. 2020-09835 Filed 5-7-20; 8:45 am]

BILLING CODE 3510-60-P